DEPARTMENT OF COMMERCE

National Oceanic and Atmospheric Administration

[I.D. 081601A]

Marine Mammals; File Nos. 774-1649 and 1010-1641

AGENCY: National Marine Fisheries Service (NMFS), National Oceanic and Atmospheric Administration (NOAA), Commerce.

ACTION: Receipt of applications.

SUMMARY: Notice is hereby given that the following applicants have applied in due form for a permit to take marine mammals for purposes of scientific research:

File No. 774-1649 - NMFS, Southwest Fisheries Science Center, 8604 La Jolla Shores Drive, La Jolla, CA 92037 (Principal Investigator: Rennie S. Holt, PhD); and File No. 1010-1641 - Aleutians East Borough, 211 4th Street, Suite 314, Juneau, AK 99801 (Principal Investigator: Ms. Kate Wynne).

DATES: Written or telefaxed comments must be received on or before September 21, 2001.

ADDRESSES: The applications and related documents are available for review upon written request or by appointment in the following office(s):

All actions available in the Permits and Documentation Division, Office of Protected Resources, NMFS, 1315 East-West Highway, Room 13705, Silver Spring, MD 20910; phone (301) 713-2289; fax (301) 713-0376;

File 774-1649 - Southwest Region, NMFS, 501 West Ocean Blvd., Suite 4200, Long Beach, CA 90802-4213; phone (562) 980-4001; fax (562) 980-4018;

File 1010-1641 - Northwest Region, NMFS, 7600 Sand Point Way NE, BIN C15700, Bldg. 1, Seattle, WA 98115-0700; phone (206) 526-6150; fax (206) 526-6426; and

File 1010-641 - Alaska Region, NMFS, P.O. Box 21668, Juneau, AK 99802-1668; phone (907) 586-7221; fax (907) 586-7249.

FOR FURTHER INFORMATION CONTACT: Ruth Johnson or Tammy Adams (301) 713-2289.

SUPPLEMENTARY INFORMATION: The subject permits are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

File 774-1679 - The United States Antarctic Marine Living Resources (U.S.-AMLR) Program, administered by the SWFSC, requests permission to take pinniped species in the South Shetland Islands, Antarctica, as part of a long-term ecosystem monitoring program established in 1986. Permission is requested to take Antarctic fur seals (Arctocephalus gazella), Southern elephant seals (Mirounga leonina), Crabeater seals (Lobodon carcinophagus), Leopard seals (Hydrurga leptonyx), Ross seals (Ommatophoca rossii), and Weddell seals (Leptonychotes weddellii) by harassment associated with life history studies and census surveys for abundance and distribution of pinnipeds. The targeted species for census surveys is the Antarctic fur seal, however, due to overlap of their breeding range with southern elephant and ice seals, a relatively small number of other Antarctic pinniped could be taken incidentally during these surveys. Studies will be conducted annually during austral summers over the next five years (2001/02-2005/06) and primarily restricted to Cape Shirreff, Livingston Island, Antarctica. The AMLR Program also proposes to conduct a regional census survey for estimates of abundance and distribution of pinniped in the South Shetlands.

File 1010-1641 - The applicant proposes to take Steller sea lions (Eumetopias jubatus) by harassment during aerial surveys, vessel-based behavioral observations, and scat collection. The purpose of the research is to provide additional information on seasonal prey consumption by Steller sea lions through scat collection at rookeries and haulouts along the Alaska Peninsula and Eastern Aleutian Islands and to improve the accuracy and precision of population indices through expanded aerial and vessel surveys in the western Gulf of Alaska.

In compliance with the National Environmental Policy Act of 1969 (42 U.S.C. 4321 et seq.), an initial determination has been made that the activities proposed are categorically excluded from the requirement to prepare an environmental assessment or environmental impact statement.

Written comments or requests for a public hearing on these applications should be mailed to the Chief, Permits and Documentation Division, F/PR1, Office of Protected Resources, NMFS, 1315 East-West Highway, Room 13705, Silver Spring, MD 20910. Those individuals requesting a hearing should set forth the specific reasons why a hearing on a particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of the applications to the Marine Mammal Commission and its Committee of Scientific Advisors.

Dated: August 16, 2001.
Ann D. Terbush,
Chief, Permits and Documentation Division, Office of Protected Resources, National Marine Fisheries Service.

[FR Doc. 01-21206 Filed 8-21-01; 8:45 am]

BILLING CODE 3510-22-S